DEPARTMENT OF ENERGY

Federal Energy Regulatory Commission

[Project No. 14612-000]

Notice of Preliminary Permit Application Accepted for Filing and Soliciting Comments, Motions To Intervene, and Competing Applications: New Summit Hydro, LLC

April 23, 2014.

On April 1, 2014, New Summit Hydro, LLC, filed an application for a preliminary permit, pursuant to section 4(f) of the Federal Power Act (FPA), proposing to study the feasibility of the New Summit Pumped Storage Project (New Summit Project or project) to be located in the City of Norton, Summit County, Ohio. The sole purpose of a preliminary permit, if issued, is to grant the permit holder priority to file a license application during the permit term. A preliminary permit does not authorize the permit holder to perform any land-disturbing activities or otherwise enter upon lands or waters owned by others without the owners' express permission.

The proposed project would consist of the following: (1) An excavated, diked, and asphalt-lined upper reservoir with a storage capacity of 8,000 acre-feet with a water surface area of 150 acres; (2) a lower underground reservoir created by previous limestone mining activities with a storage capacity of 7,760 acre-feet; (3) an underground powerhouse and appurtenant structures including six 250-megawatt (MW) variable speed reversible pump turbines for a total installed capacity of 1,500 MW; (4) power plant buildings and surface structures that occupy approximately 70 acres, including a 17.5 foot-diameter vent stack, up to 100 feet high and flaring to a 30-foot diameter at the top; (5) a concrete-lined power tunnel located 300 feet below the ground surface that extends from the upper reservoir to two 17.5-foot-diameter, 2400-foot-long, concrete-lined vertical shafts that connect the power tunnel with the underground powerhouse penstocks. The power tunnel would be approximately 30 feet in diameter and approximately 8,000 feet long; (6) an underground transformer gallery; (7) six steel concrete-lined penstocks, that would be approximately six feet in diameter and 235 feet long; (8) four 345-kilovolt overhead transmission line circuits, approximately 3 miles long, arranged in two parallel double circuit tower sets within an existing transmission line corridor located north of the proposed reservoir; (9) offsite and onsite recreational facilities. The estimated annual generation of the New Summit Project would between 1,300,000 megawatt-hours (MWh) and 2,000,000 MWh.

Applicant Contact: Mr. Kevin Young, Managing Member, New Summit Hydro, LLC, 2112 Talmage Drive, Leland, North Carolina 28451-9340; phone: (617) 645-3685.

FERC Contact: Bryan Roden-Reynolds; phone: (202) 502-6618.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14612-000.

More information about this project, including a copy of the application, can be viewed or printed on the “eLibrary” link of Commission's Web site at http://www.ferc.gov/docs-filing/elibrary.asp. Enter the docket number (P-14612) in the docket number field to access the document. For assistance, contact FERC Online Support.

Kimberly D. Bose,
Secretary.

[FR Doc. 2014-09805 Filed 4-29-14; 8:45 am]

BILLING CODE P